DEPARTMENT OF THE INTERIOR

Bureau of Indian Affairs

Indian Gaming

AGENCY: Bureau of Indian Affairs, Interior.

ACTION: Notice of approved Class III Gaming Compact Amendment.

SUMMARY: This notice publishes an Amendment to an approved Class III Gaming Compact between the Port Gamble S'Klallam Tribe and the State of Washington. Under the Indian Gaming Regulatory Act of 1988, the Secretary of the Interior is required to publish notice in the Federal Register approved Tribal-State compacts for the purpose of engaging in Class III gaming activities on Indian lands.

EFFECTIVE DATE: June 23, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA) Pub. L. 100-497, 25 U.S.C. 2710, the Secretary of the Interior shall publish in the Federal Register notice of approved Tribal-State compacts for the purpose of engaging in Class III gaming activities on Indian lands.

The Port Gamble S'Klallam Tribe and the State of Washington have agreed to amend the following Sections; Licensing and State Certification Procedures, Community Impact Contribution, Renegotiation, Hours of Operation, and Age Limitations, as well as, add the game Let it Ride to the existing compact. The Principal Deputy Assistant Secretary—Indian Affairs, Department of the Interior, through her delegated authority, is publishing notice that the Tribal—State Compact Amendment for Class III gaming between the Port Gamble S'Klallam Tribe and the State of Washington is now in effect.

Dated: May 21, 2004.
Aurene M. Martin,
Principal Deputy Assistant Secretary—Indian Affairs.

[FR Doc. 04-14260 Filed 6-22-04; 8:45 am]

BILLING CODE 4310-4N-P